DEPARTMENT OF JUSTICE

Antitrust Division

Notice Pursuant to the National Cooperative Research and Production Act of 1993—GE Corporate Research and Development: Bulk Gallium Nitride & Homoepitaxial Device Manufacturing

Notice is hereby given that, on June 27, 2001, pursuant to Section 6(a) of the National Cooperative Research and Production Act of 1993, 15 U.S.C. 4301 et seq. (“the Act”), GE Corporate Research & Development: Bulk Gallium Nitride & Homoepitaxial Device Manufacturing has filed written notifications simultaneously with the Attorney General and the Federal Trade Commission disclosing changes in its membership status. The notifications were filed for the purpose of extending the Act's provisions limiting the recovery of antitrust plaintiffs to actual damages under specified circumstances. Specifically, Sanders, formerly a division of Lockheed Martin Corporation, Nashua, NH has been acquired by BAE Systems North America, Rockville, MD and is now known as BAE Information and Electronic Systems Integration, Inc.

No other changes have been made in either the membership or planned activity of the group research project.

On August 6, 1999, General Electric Corporate Research and Development: Bulk Gallium Nitride and Homoepitaxial Device Manufacturing filed its original notification pursuant to Section 6(a) of the Act. The Department of Justice published a notice in the Federal Register pursuant to Section 6(b) of the Act on December 2, 1999 (64 FR 67589).

Constance K. Robinson,
Director of Operations, Antitrust Division.

[FR Doc. 01-23961 Filed 9-24-01; 8:45 am]

BILLING CODE 4410-11-M